DEPARTMENT OF LABOR

Employment and Training Administration

Investigations Regarding Certifications of Eligibility To Apply for Alternative Trade Adjustment Assistance

Applications have been filed with the Secretary of Labor under Section 246 of the Trade Act of 1974 (“the Act”) and are identified in the Appendix to this notice. Upon receipt of these applications, the Director of the Division of Trade Adjustment Assistance, Employment and Training Administration, has instituted investigations pursuant to section 246 of the Act.

The purpose of each of the investigations is to determine whether the workers are eligible to apply for alternative adjustment assistance under Title II, Chapter 2, of the Act. The petitioners or any other persons showing a substantial interest in the subject matter of the investigations may request a public hearing, provided such request is filed in writing with the Director, Division of Trade Adjustment Assistance, at the address shown below, not later than April 11, 2005.

Interested persons are invited to submit written comments regarding the subject matter of the investigations to the Director, Division of Trade Adjustment Assistance, at the address shown below, not later than April 11, 2005.

The petitioners filed in this case are available for inspection at the Office of the Director, Division of Trade Adjustment Assistance, Employment and Training Administration, U.S. Department of Labor, Room C-5311, 200 Constitution Avenue, NW., Washington, DC 20210.

Signed in Washington, DC this 22nd day of March 2005.
Timothy F. Sullivan,
Director, Division of Trade Adjustment Assistance.

ATAA Appendix
[Petitions instituted between 12/06/04 and 3/18/05—Contact: Regina Chapman (202) 693-3547]
TA-W No. | Company name | City, state | Date of application | Date of institution
53,344 | Royal Appliance Mfg. Co | Glenwillow, Mentor, Ohio | Nov. 10, 2004 | Dec. 6, 2004.
54,211 | Intercraft Company, Inc | Taylor, Texas | Nov. 3, 2004 | Dec. 6, 2004.
54,354 | Arvesta Company | Perry, Ohio | Nov. 10, 2004 | Dec. 6, 2004.
54,630 | Osborn, Intl., Brush, Div | Cleveland, Ohio | Nov. 10, 2004 | Dec. 6, 2004.
52,891 | C.O.W. Ind., Inc | Columbus, Ohio | Nov. 10, 2004 | Dec. 6, 2004.
52,917 | Hooven Allison | Xenia, Ohio | Nov. 10, 2004 | Dec. 6, 2004.
53,026 | Metaldyne Driveline/Hydraulics | Bedford Heights, Michigan | Nov. 10, 2004 | Dec. 14, 2004.
53,087 | Manchester Tool Co | Akron, Ohio | Nov. 10, 2004 | Dec. 15, 2004.
52,951 | Durrell Corp | Alliance, Ohio | Nov. 10, 2004 | Dec. 15, 2004.
53,587 | Sensient Imaging Technology | Piqua, OH | Nov. 10, 2004 | Dec. 21, 2004.
53,119 | Orrca, Inc | Killbuck, Ohio | Nov. 10, 2004 | Dec. 21, 2004.
52,909 | Dolly | Tipp City, Ohio | Nov. 10, 2004 | Dec. 22, 2004.
52,213 | Hoover Company | North Canton, Ohio | Nov. 10, 2004 | Dec. 22, 2004.
52,823 | Channel Products | Cleveland, Ohio | Nov. 10, 2004 | Dec. 22, 2004.
53,677 | Smead Mfg. Co | Logan, Ohio | Nov. 10, 2004 | Dec. 22, 2004.
53,699 | Tomlinson Industries | Cleveland, Ohio | Nov. 10, 2004 | Dec. 22, 2004.
53,921 | Pac-Tec, Inc | Heath, Ohio | Nov. 10, 2004 | Dec. 22, 2004.
52,274 | Thomson, Inc | Circleville, Ohio | Nov. 10, 2004 | Dec. 22, 2004.
52,376 | Delphi Corp | Kettering, Ohio | Nov. 10, 2004 | Dec. 23, 2004.
52,419 | Nestaway | Columbus, Ohio | Nov. 10, 2004 | Dec. 23, 2004.
52,453 | National Metal Abrasives | Columbus, Ohio | Nov. 10, 2004 | Dec. 23, 2004.
51,803 | North American Cronite, Inc. | North Ridgeville, Ohio | Nov. 10, 2004 | Dec. 23, 2004.
52,445 | Baron Dawn Steel Corp | Toledo, Ohio | Nov. 10, 2004 | Dec. 23, 2004.
52,443 | Formica Corp | Cincinnati, Ohio | Nov. 10, 2004 | Dec. 23, 2004.
52,291 | Sterling China Co | Wellsville, Ohio | Nov. 10, 2004 | Dec. 23, 2004.
52,319 | Akron Porcelain and Plastics Co., Inc | Akron, Ohio | Nov. 10, 2004 | Dec. 23, 2004.
54,033 | Aluminum Color Ind | Lowellville, Ohio | Nov. 10, 2004 | Dec. 23, 2004.
54,051 | Ferriot, Inc., Mold Bldg. Div | Akron, Ohio | Nov. 10, 2004 | Dec. 23, 2004.
54,334 | Simonds Intl. Corp | Newcomerstown, Ohio | Nov. 10, 2004 | Dec. 23, 2004.
53,264 | Burlington Industries | Burlington, NC | Nov. 18, 2004 | Dec. 23, 2004.
53,855 | American Fast Print | Spartanburg, SC | Nov. 18, 2004 | Jan. 24, 2005.
52,803 | Norwood Yarn Sales | Norwood, NC | Nov. 23, 2004 | Jan. 4, 2005.
54,249 | VF Jeanswear | Greensboro, NC | Nov. 22, 2004 | Dec. 30, 2004.
54,661 | Hooven-Allison | Xenia, OH | Nov. 23, 2004 | Dec. 30, 2004.
55,180 | Rainbow Swimwear | Brooklyn, NY | Nov. 23, 2004 | Dec. 30, 2004.
54,332 | Springs Ind. Lyman Finishing Plant | Lyman, SC | Nov. 23, 2004 | Jan. 4, 2005.
54,575 | Timken | Rutherford, NC | Nov. 24, 2004 | Jan. 4, 2005.
53,227 | Voith Paper | Salisbury, NC | Nov. 24, 2004 | Jan. 4, 2005.
53,276 | H. Freeman and Sons | Philadelphia, PA | Nov. 24, 2004 | Jan. 4, 2005.
54,255 | Imperial Schrade Corporation | Ellenville, NY | Nov. 26, 2004 | Jan. 4, 2005.
52,809 | Mayflower Mfg. Co | Old Forge, PA | Nov. 26, 2004 | Jan. 4, 2005.
54,355 | Wellman, Inc | Charlotte, NC | Nov. 30, 2004 | Jan. 4, 2005.
54,329 | Diefendorf Gear, Corp | Syracuse, NY | Nov. 30, 2004 | Jan. 4, 2005.
53,517 | Howell Penncraft | Howell, MI | Dec. 2, 2004 | Jan. 4, 2005.
54,314 | Production Dept | Confluence, PA | Dec. 2, 2004 | Jan. 4, 2005.
54,195 | Excelsior Foundry | Belleville, IL | Dec. 6, 2004 | Jan. 4, 2005.
53,096 | H. Warsaw and Sons, Inc | Milton, PA | Dec. 6, 2004 | Jan. 4, 2005.
54,164 | Maida Dev. Co | Hampton, VA | Dec. 6, 2004 | Jan. 4, 2005.
53,481 | Springs Ind., Inc | Fort Mill, SC | Dec. 6, 2004 | Jan. 4, 2005.
52,708 | Carolina Pad & Paper | Charlotte, NC | Dec. 7, 2004 | Jan. 5, 2005.
53,410 | NIDEC America Corp | Norwood, MA | Dec. 7, 2004 | Jan. 5, 2005.
53,395 | DU-CO Ceramics Co | Saxonburg, PA | Dec. 8, 2004 | Jan. 5, 2005.
52,372 | Code Systems, Inc | Troy, MI | Dec. 16, 2004 | Jan. 5, 2005.
52,173 | Carr Lowrey Glass Co | Baltimore, MD | Dec. 14, 2004 | Jan. 5, 2005.
54,226 | EBSCO, Ind | Mulberry, AR | Dec. 14, 2004 | Jan. 5, 2005.
54,225 | Prado Outdoor | Hot Springs, AR | Dec. 14, 2004 | Jan. 5, 2005.
53,509 | Armstrong Flooring | Warren, AR | Dec. 14, 2004 | Jan. 5, 2005.
53,183 | Group Seven Systems, Inc | Lenoir, NC | Dec. 15, 2004 | Jan. 5, 2005.
54,714 | Carbo Minerals, LP | Wrightstown, WI | Dec. 15, 2004 | Jan. 5, 2005.
53,029 | American Electric Lighting (Acuity Brands Co.) | Bainbridge, GA | Dec. 16, 2004 | Jan. 5, 2005.
53,166 | Arvin Meritor | Chickasha, OK | Dec. 17, 2004 | Jan. 5, 2005.
52,340 | RST&B | Johnsonville, SC | Dec. 20, 2004 | Jan. 5, 2005.
52,415 | Today's Plastics | Bonneville, AR | Dec. 21, 2004 | Jan. 5, 2005.
52,286 | L.A. Darling Co | Piggot, AR | Dec. 21, 2004 | Jan. 5, 2005.
52,382 | Capital Mercury | Gasville, AR | Dec. 21, 2004 | Jan. 5, 2005.
52,072 | Colson Caster | Jonesboro, AR | Dec. 21, 2004 | Jan. 5, 2005.
52,071 | Colson Plastic | Monette, AR | Dec. 21, 2004 | Jan. 5, 2005.
52,349 | Terry Apparel | Marianna, AR | Dec. 21, 2004 | Jan. 5, 2005.
52,239 | Titan Tire Corp | Des Moines, IA | Dec. 21, 2004 | Jan. 5, 2005.
53,353 | Lapp Insulator Co | Sandersville, GA | Dec. 21, 2004 | Jan. 5, 2005.
52,399 | Morelock Enterprises | Bend, OR | Dec. 28, 2004 | Jan. 5, 2005.
53,526 | Royal Home Fashions | Durham, NC | Dec. 30, 2004 | Jan. 5, 2005.
53,912 | AK Steel | Butler, PA | Dec. 30, 2004 | Jan. 5, 2005.
53,349 | Ethan Allen | Beecher Falls, VT | Jan. 3, 2005 | Jan. 24, 2005.
54,677 | Penn Champ, Inc | East Butler, PA | Jan. 3, 2005 | Jan. 24, 2005.
53,298 | Fisher Controls | McKinney, TX | Jan. 3, 2005 | Jan. 24, 2005.
52,417 | Pennsylvania House | Lewisburg, PA | Jan. 4, 2005 | Jan. 24, 2005.
52,117 | Johnstown America Corp | Johnstown, PA | Jan. 6, 2005 | Jan. 24, 2005.
54,108 | Bridal Originals (S.A.S.I. Corp.) | Sparta, IL | Jan. 6, 2005 | Jan. 24, 2005.
52,136 | Fairchild Semiconductor Int., Inc | South Portland, ME | Jan. 11, 2005 | Jan. 24, 2005.
51,524 | General Electric | Bloomington, IN | Jan. 11, 2005 | Jan. 24, 2005.
52,424 | Johnstown Corp. | Johnstown, PA | Jan. 11, 2005 | Jan. 24, 2005.
53,591 | Steward | Chattanooga, TN | Nov. 23, 2004 | Jan. 4, 2005.
53,134 | Dan River, Inc | Ft. Valley, GA | Dec. 9, 2004 | Jan. 24, 2005.
52,448 | T.S. Trim Industries, Inc | Athens, OH | Nov. 10, 2004 | Jan. 24, 2005.
53,573 | Elco (Textron) | Rockford, IL | Nov. 24, 2004 | Jan. 24, 2005.
52,243 | Nestle Purina Pet Foods | St. Joseph, MO | Jan. 24, 2005 | Jan. 26, 2005.
53,754 | Douglas Quick-it | Walnut Ranch, AR | Jan. 26, 2005 | Feb. 9, 2005.
54,313 | Pennacle Frames and Accent, Inc | Pigott, AR | Jan. 26, 2005 | Feb. 9, 2005.
52,187 | General Electric | Jonesboro, AR | Jan. 26, 2005 | Feb. 9, 2005.
52,429 | Agilent Tech | Fort Collins, CO | Feb. 3, 2005 | Feb. 9, 2005.
52,441 | Conn-Selmer, Inc | Elkhart, IN | Jan. 27, 2005 | Feb. 9, 2005.
51,720 | Kidder, Inc | Agawam, MA | Jan. 31, 2003 | Feb. 9, 2005.
54,257 | MCS Ind. Inc | Easton, PA | Feb. 3, 2005 | Feb. 9, 2005.
53,944 | Universal Lighting Tech | Madison, AL | Jan. 26, 2005 | March 3, 2005.
53,918 | BMC Software, Inc | Houston, TX | March 11, 2005 | March 15, 2005.

[FR Doc. 05-6411 Filed 3-31-05; 8:45 am]

BILLING CODE 4510-30-M